DEPARTMENT OF DEFENSE

Office of the Secretary

[Docket ID: DOD-2016-OS-0085]

Privacy Act of 1974; System of Records

AGENCY: Office of the Secretary of Defense, DoD.

ACTION: Notice to alter a system of records.

SUMMARY: The Office of the Secretary of Defense proposes to alter a system of records, DFMP 09, entitled “Defense Equal Opportunity Management Institute Student File.” The system is used to manage administrative and academic functions related to student registration and courses attempted and completed. Records are used to ensure class diversity; input grades; track student progress; advise/counsel as needed; verify attendance; and are used by the academic review board and the Commandant to make decisions regarding the release of students from the program. Records are also used as a management tool for statistical analysis, tracking, and reporting.

DATES: Comments will be accepted on or before September 9, 2016. This proposed action will be effective the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate for Oversight and Compliance, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mrs. Luz D. Ortiz, Chief, Records, Privacy and Declassification Division (RPD2), 1155 Defense Pentagon, Washington, DC 20301-1155, or by phone at (571) 372-0478.

SUPPLEMENTARY INFORMATION: The Office of the Secretary of Defense notices for systems of records subject to the Privacy Act of 1974 (5 U.S.C. 552a), as amended, have been published in the Federal Register and are available from the address in FOR FURTHER INFORMATION CONTACT or at the Defense Privacy and Civil Liberties Division Web site at http://dpcld.defense.gov/.

The proposed systems reports, as required by 5 U.S.C. 552a(r) of the Privacy Act, as amended, were submitted on July 19, 2016, to the House Committee on Oversight and Government Reform, the Senate Committee on Homeland Security and Governmental Affairs, and the Office of Management and Budget (OMB) pursuant to paragraph 4 of Appendix I to OMB Circular No. A-130, “Federal Agency Responsibilities for Maintaining Records About Individuals,” revised November 28, 2000 (December 12, 2000 65 FR 77677).

Dated: August 4, 2016.
Aaron Siegel,
Alternate OSD Federal Register Liaison Officer, Department of Defense.

DFMP 09

System name:

Defense Equal Opportunity Management Institute Student File (February 22, 1993, 58 FR 10227).

Changes:

System identifier:

Delete entry and replace with “DPR 48.”

System name:

Delete entry and replace with “Defense Equal Opportunity Management Institute Integrated Database.”

System location:

Delete entry and replace with “Defense Equal Opportunity Management Institute, 366 Tuskegee Airmen Drive, Building 352, Patrick AFB, FL 32925-3399.”

Categories of individuals covered by the system:

Delete entry and replace with “Active duty military, Reserve Components, DoD civilians, other Federal Government agency employees, and contractors attending courses at the Defense Equal Opportunity Management Institute (DEOMI).”

Categories of records in the system:

Delete entry and replace with “Name, Social Security Number (SSN), gender, birth date, race/ethnicity, religious preference, disability information, unit/home address, email, work and home/cell phone numbers; lodging at training location (facility, address, and room number); emergency contact name, address, relationship, and phone number; education level; employment information (military or civilian organization), rank, date of rank, date entered service, pay grade, occupational series, clearance level, duty position; student number, class number, DEOMI test and examination scores, instructor grades, and advisor progress reports.”

Authority for maintenance of the system:

Delete entry and replace with “10 U.S.C. 136, Under Secretary of Defense for Personnel and Readiness; 5 U.S.C. 4103, Establishment of training programs; DoD Directive (DoDD) 1020.02E, Diversity Management and Equal Opportunity (EO) in the Department of Defense; DoDD 1322.18, Military Training; DoDD 1350.2, Department of Defense Military Equal Opportunity (MEO) Program; DoDD 1440.1, The DoD Civilian Equal Employment Opportunity (EEO) Program; and E.O. 9397 (SSN), as amended.”

Purpose:

Delete entry and replace with “To manage administrative and academic functions related to student registration and courses attempted and completed. Records are used to ensure class diversity; input grades; track student progress; advise/counsel as needed; verify attendance; and are used by the academic review board and the Commandant to make decisions regarding the release of students from the program. Records are also used as a management tool for statistical analysis, tracking, and reporting.”

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3) as follows:

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Congressional Inquiries Disclosure Routine Use: Disclosure from a system of records maintained by a DoD Component may be made to a congressional office from the record of an individual in response to an inquiry from the congressional office made at the request of that individual.

Disclosure of Information to the National Archives and Records Administration Routine Use: A record from a system of records maintained by a DoD Component may be disclosed as a routine use to the National Archives and Records Administration for the purpose of records management inspections conducted under authority of 44 U.S.C. 2904 and 2906.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The DoD Blanket Routine Uses set forth at the beginning of the Office of the Secretary of Defense (OSD) compilation of systems of records notices may apply to this system. The complete list of DoD Blanket Routine Uses can be found online at: http://dpcld.defense.gov/Privacy/SORNsIndex/BlanketRoutineUses.aspx”

Policies and practices for storing, retrieving, accessing, retaining, and disposing of records in the system:

Storage:

Delete entry and replace with “Electronic storage media.”

* * * * *

Safeguards:

Delete entry and replace with “Records are stored in a controlled access area in a DoD facility which is protected by base entry security guards and is accessible only to badged personnel. Access to records is restricted to authorized personnel in performance of their official duties through the use of a Common Access Card (CAC) and PIN. Records are stored in an encrypted database and access requires token authentication. Periodic security audits, regular monitoring of user security practices and methods to ensure only authorized personnel access records are applied.”

Retention and disposal:

Delete entry and replace with “Cut off on graduation, transfer, withdrawal, or death of student. Destroy 50 years after cut off.”

System manager and address:

Delete entry and replace with “Director, Information Systems, Defense Equal Opportunity Management Institute, 366 Tuskegee Airmen Drive, Building 352, Patrick AFB, FL 32925-3399.”

Notification procedure:

Delete entry and replace with “Individuals seeking to determine whether information about themselves is contained in this system should address written inquiries to the Director, Personnel and Student Services, Attn: Student Services, Defense Equal Opportunity Management Institute, 366 Tuskegee Airmen Drive, Building 352, Patrick AFB, FL 32925-3399.

Signed, written requests should include full name, SSN or student number, current address, telephone number, and class attended or class number.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).'

If requesting information about a minor or legally incompetent person, the request must be made by the custodial parent, legal guardian, or person with legal authority to make decisions on behalf of the individual. Written proof of that status may be required before the existence of any information will be confirmed.”

Record access procedures:

Delete entry and replace with “Individuals seeking access to information about themselves contained in this system should address written inquiries to the Office of the Secretary of Defense/Joint Staff Freedom of Information Act, Requester Service Center, Office of Freedom of Information, 1155 Defense Pentagon, Washington, DC 20301-1155.

Signed, written requests should include full name, SSN or student number, current address, telephone number, class attended or class number, and the name and number of this system of records notice.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).'

If requesting information about a minor or legally incompetent person, the request must be made by the custodial parent, legal guardian, or person with legal authority to make decisions on behalf of the individual. Written proof of that status may be required before the existence of any information will be confirmed.”

Contesting record procedures:

Delete entry and replace with “The Office of the Secretary of Defense (OSD) rules for accessing records, for contesting contents and appealing initial agency determinations are published in OSD Administrative Instruction 81; 32 CFR part 311; or may be obtained from the system manager.”

Record source categories:

Delete entry and replace with “Individuals, instructors, facilitators, and examinations.”

* * * * *

DPR 48

System name:

Defense Equal Opportunity Management Institute Integrated Database.

System location:

Defense Equal Opportunity Management Institute, 366 Tuskegee Airmen Drive, Building 352, Patrick AFB, FL 32925-3399.

Categories of individuals covered by the system:

Active duty military, Reserve Components, DoD civilians, other Federal Government agency employees, and contractors attending courses at the Defense Equal Opportunity Management Institute (DEOMI).

Categories of records in the system:

Name, Social Security Number (SSN), gender, birth date, race/ethnicity, religious preference, disability information, unit/home address, email, work and home/cell phone numbers; lodging at training location (facility, address, and room number); emergency contact name, address, relationship, and phone number; education level; employment information (military or civilian organization), rank, date of rank, date entered service, pay grade, occupational series, clearance level, duty position; student number, class number, DEOMI test and examination scores, instructor grades, and advisor progress reports.

Authority for maintenance of the system:

10 U.S.C. 136, Under Secretary of Defense for Personnel and Readiness; 5 U.S.C. 4103, Establishment of training programs; DoD Directive (DoDD) 1020.02E, Diversity Management and Equal Opportunity (EO) in the Department of Defense; DoDD 1322.18, Military Training; DoDD 1350.2, Department of Defense Military Equal Opportunity (MEO) Program; DoDD 1440.1, The DoD Civilian Equal Employment Opportunity (EEO) Program; and E.O. 9397 (SSN), as amended.

Purpose:

To manage administrative and academic functions related to student registration and courses attempted and completed. Records are used to ensure class diversity; input grades; track student progress; advise/counsel as needed; verify attendance; and are used by the academic review board and the Commandant to make decisions regarding the release of students from the program. Records are also used as a management tool for statistical analysis, tracking, and reporting.

Routine uses of records maintained in the system, including categories of users and the purposes of such uses:

In addition to those disclosures generally permitted under 5 U.S.C. 552a(b) of the Privacy Act of 1974, as amended, the records contained herein may specifically be disclosed outside the DoD as a routine use pursuant to 5 U.S.C. 552a(b)(3) as follows:

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Congressional Inquiries Disclosure Routine Use: Disclosure from a system of records maintained by a DoD Component may be made to a congressional office from the record of an individual in response to an inquiry from the congressional office made at the request of that individual.

Disclosure of Information to the National Archives and Records Administration Routine Use: A record from a system of records maintained by a DoD Component may be disclosed as a routine use to the National Archives and Records Administration for the purpose of records management inspections conducted under authority of 44 U.S.C. 2904 and 2906.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The DoD Blanket Routine Uses set forth at the beginning of the Office of the Secretary of Defense (OSD) compilation of systems of records notices may apply to this system. The complete list of DoD Blanket Routine Uses can be found online at: http://dpcld.defense.gov/Privacy/SORNsIndex/BlanketRoutineUses.aspx.

Policies and practices for storing, retrieving, accessing, retaining, and disposing of records in the system:

Storage:

Electronic storage media.

Retrievability:

Name, Social Security Number, student number or class.

Safeguards:

Records are stored in a controlled access area in a DoD facility which is protected by base entry security guards and is accessible only to badged personnel. Access to records is restricted to authorized personnel in performance of their official duties through the use of a Common Access Card (CAC) and PIN. Records are stored in an encrypted database and access requires token authentication. Periodic security audits, regular monitoring of user security practices and methods to ensure only authorized personnel access records are applied.

Retention and disposal:

Cut off on graduation, transfer, withdrawal, or death of student. Destroy 50 years after cut off.

System manager and address:

Director, Information Systems, Defense Equal Opportunity Management Institute, 366 Tuskegee Airmen Drive, Building 352, Patrick AFB, FL 32925-3399.

Notification procedure:

Individuals seeking to determine whether information about themselves is contained in this system should address written inquiries to the Director, Personnel and Student Services, Attn: Student Services, Defense Equal Opportunity Management Institute, 366 Tuskegee Airmen Drive, Building 352, Patrick AFB, FL 32925-3399.

Signed, written requests should include full name, SSN or student number, current address, telephone number, and class attended or class number.

In addition, the requester must provide a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

If requesting information about a minor or legally incompetent person, the request must be made by the custodial parent, legal guardian, or person with legal authority to make decisions on behalf of the individual. Written proof of that status may be required before the existence of any information will be confirmed.

Record access procedures:

Individuals seeking access to information about themselves contained in this system should address written inquiries to the Office of the Secretary of Defense/Joint Staff Freedom of Information Act, Requester Service Center, Office of Freedom of Information, 1155 Defense Pentagon, Washington, DC 20301-1155.

Signed, written requests should include full name, SSN or student number, current address, telephone number, class attended or class number, and the name and number of this system of records notice.

In addition, the requester must provide a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

If requesting information about a minor or legally incompetent person, the request must be made by the custodial parent, legal guardian, or person with legal authority to make decisions on behalf of the individual. Written proof of that status may be required before the existence of any information will be confirmed.

Contesting record procedures:

The Office of the Secretary of Defense (OSD) rules for accessing records, for contesting contents and appealing initial agency determinations are published in OSD Administrative Instruction 81; 32 CFR part 311; or may be obtained from the system manager.

Record source categories:

Individuals, instructors, facilitators, and examinations.

Exemptions:

None.

[FR Doc. 2016-18927 Filed 8-9-16; 8:45 am]

BILLING CODE 5001-06-P